DEPARTMENT OF THE INTERIOR

Bureau of Land Management

[ES-030-1430-EU; WIES-051607]

Notice of Realty Action: Direct Sale of Public Land in Vilas County, WI

AGENCY: Bureau of Land Management, Interior.

ACTION: Notice of realty action.

SUMMARY: The Bureau of Land Management (BLM) proposes to sell a .21 acre parcel of public land in Vilas County, Wisconsin at not less than the fair market value to Ernest Horinek to resolve an unauthorized use of public land.

DATES: Comments regarding the proposed sale must be received by the BLM at the address below not later than July 31, 2006.

ADDRESSES: Send all written comments concerning this proposed sale to the Field Manager, BLM-Eastern States, Milwaukee Field Office, 626 East Wisconsin Avenue, Suite 200, Milwaukee, Wisconsin 53202. Comments received in electronic form such as e-mail or facsimile will not be considered.

FOR FURTHER INFORMATION CONTACT: Marcia Sieckman at 414-297-4402 or at the address above.

SUPPLEMENTARY INFORMATION: In accordance with the provisions of 43 CFR part 2710, the following described public land is proposed to be sold pursuant to the authority provided in section 203 of the Federal Land Policy and Management Act of 1976 (FLPMA), as amended (43 U.S.C. 1713):

Fourth Principal Meridian

T. 43 N., R. 5 E.,

Sec. 4, lot 17 of Government lot 11.

The area described contains 0.21 acres in Vilas County

The appraised market value for this parcel is $20,000. The proposed sale is consistent with the objectives, goals, and decisions of the Wisconsin Resource Management Plan Amendment (2001) and the land is not required for Federal purposes. The direct sale of this land to Mr. Horinek would resolve an unintentional, unauthorized occupancy of public land managed by the BLM. In accordance with 43 CFR 2710.0-6(c)(3)(iii) and 43 CFR 2711.3-3(a), direct sale procedures are appropriate to resolve an inadvertent unauthorized occupancy of the land and to protect existing equities in the land. The unauthorized occupancy involves encroachment of a cabin on the public land. Mr. Horinek owns the private land south of the subject BLM parcel. In 2002, Mr. Horinek notified this office that a private survey he had commissioned revealed a potential encroachment of his cabin on to the BLM parcel. The encroachment was verified by the Chief Cadastral Surveyor for Eastern States in July of 2002. The sale when completed would add the public land to the Horinek property, protect the improvements, and resolve an inadvertent encroachment. The parcel is the minimum size possible to ensure that all of the improvements are included. The proponent, Mr. Ernest Horinek, will be allowed 30 days from receipt of a written offer to submit a deposit of at least 20 percent of the appraised market value of the parcel, and 180 days thereafter to submit the balance.

On June 16, 2006 the above described land is segregated from appropriation under the public land laws. The segregative effect of this notice shall terminate upon issuance of a patent upon publication in the Federal Register of a termination of the segregation or on March 13, 2007, which ever comes first.

The following reservations, rights, and conditions will be included in the patent that may be issued for the above parcel of Federal land:

1. A reservation of all minerals to the United States.

2. All valid and existing rights of record.

Detailed information concerning the proposed land sale, including sale procedures, appraisal, planning and environmental documents, and mineral report is available for review at the BLM-ES, Milwaukee Field Office, 626 East Wisconsin Avenue, Suite 200, Milwaukee, Wisconsin 53202. Normal business hours are 7:30 a.m. to 4:30 p.m., Monday through Friday, except Federal holidays.

The general public and interested parties may submit written comments regarding the proposed sale to the Field Manager at the above address not later than July 31, 2006. Comments received during this process, including respondent's name, address, and other contact information, will be available for public review. Individual respondents may request confidentiality. If you wish to request that BLM consider withholding your name, address, and other contact information (phone number, e-mail address, or fax number, etc.) from public review or disclosure under the Freedom of Information Act, you must state this prominently at the beginning of your comment. The BLM will honor requests for confidentiality on a case-by-case basis to the extent allowed by law. The BLM will make available for public review, in their entirety, all comments submitted by businesses or organizations, including comments by an individual in their capacity as an official or representative of a business or organization.

Any adverse comments will be reviewed by the State Director, who may sustain, vacate, or modify this realty action. In the absence of timely filed objections, this realty action will become the final determination of the Department of the Interior.

The land will not be offered for sale prior to August 15, 2006.

(Authority: 43 CFR 2711.1-2(a)).

Dated: May 4, 2006.
Michael D. Nedd,
State Director, Eastern States.

[FR Doc. E6-9433 Filed 6-15-06; 8:45 am]

BILLING CODE 4310-PN-P